NUCLEAR REGULATORY COMMISSION

[Docket No. 50-263; NRC-2014-0207]

Northern States Power Company—Minnesota; Monticello Nuclear Generating Plant

AGENCY: Nuclear Regulatory Commission.

ACTION: License amendment application; withdrawal by applicant.

SUMMARY: The U.S. Nuclear Regulatory Commission (NRC) has granted the request of Northern States Power Company, a Minnesota corporation, doing business as Xcel Energy, to withdraw its application dated June 17, 2014, for a proposed amendment to Renewed Facility Operating License No. DPR-22, for the Monticello Nuclear Generating Plant. The proposed amendment would have revised the required pressure for operability of the Alternate Nitrogen System as specified in Technical Specification Surveillance Requirement 3.5.1.3.b.

ADDRESSES: Please refer to Docket ID NRC-2014-0207 when contacting the NRC about the availability of information regarding this document. You may obtain publicly-available information related to this document using any of the following methods:

• Federal Rulemaking Web site: Go to http://www.regulations.gov and search for Docket ID NRC-2014-0207. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Terry A. Beltz, Office of Nuclear Reactor Regulation, U.S. Nuclear Regulatory Commission, Washington DC 20555-0001; telephone: 301-415-3049, email: Terry.Beltz@nrc.gov.

SUPPLEMENTARY INFORMATION: The NRC has granted the request of Northern States Power Company—Minnesota (the licensee) to withdraw its application dated June 17, 2014 (ADAMS Accession No. ML14168A486), for a proposed amendment to the Monticello Nuclear Generating Plant, located in Wright County, Minnesota.

The proposed amendment would have revised the required pressure for operability of the Alternate Nitrogen System as specified in Technical Specification Surveillance Requirement 3.5.1.3.b.

The NRC published a Biweekly Notice in the Federal Register on September 30, 2014 (79 FR 58822), that gave notice that this proposed amendment was under consideration by the NRC. However, by letter dated May 29, 2015 (ADAMS Accession No. ML15149A405), the licensee requested to withdraw the proposed amendment.

Dated at Rockville, Maryland, this 10th day of June 2015.
For the Nuclear Regulatory Commission.
Terry A. Beltz,
Senior Project Manager, Plant Licensing Branch III-1, Division of Operating Reactor Licensing, Office of Nuclear Reactor Regulation.

[FR Doc. 2015-14794 Filed 6-15-15; 8:45 am]

BILLING CODE 7590-01-P